DEPARTMENT OF COMMERCE

Foreign-Trade Zones Board

[B-27-2013]

Foreign-Trade Zone 161—Sedgwick County, Kansas; Authorization of Production Activity; Siemens Energy, Inc. (Wind Turbine Nacelles and Hubs); Hutchinson, Kansas

On March 7, 2013, Siemens Energy, Inc., an operator of FTZ 161, submitted a notification of proposed production activity to the Foreign-Trade Zones (FTZ) Board.

The notification was processed in accordance with the regulations of the FTZ Board (15 CFR part 400), including notice in the Federal Register inviting public comment (78 FR 20888, April 8, 2013). The FTZ Board has determined that no further review of the activity is warranted at this time. The production activity described in the notification is authorized, subject to the FTZ Act and the FTZ Board's regulations, including Section 400.14.

Dated: July 8, 2013.
Andrew McGilvray,
Executive Secretary.

[FR Doc. 2013-16784 Filed 7-11-13; 8:45 am]

BILLING CODE 3510-DS-P